DEPARTMENT OF THE INTERIOR

Geological Survey

Scientific Earthquake Studies Advisory Committee

AGENCY: Geological Survey.

ACTION: Notice of meeting.

SUMMARY: Pursuant to Public Act 106-503, the Scientific Earthquake Studies Advisory Committee (SESAC) will hold its eleventh meeting. The meeting location is the Courtyard Seattle Downtown /Lake Union, 925 Westlake Avenue North, Seattle, Washington 98109. The Committee is comprised of members from academia, industry, and State government. The Committee shall advise the Director of the U.S. Geological Survey (USGS) on matters relating to the USGS's participation in the National Earthquake Hazards Reduction Program.

The Committee will review the overall direction of the U.S. Geological Survey's Earthquake Hazards Program in the current and next fiscal years with particular focus on the Program's activities in the Pacific Northwest.

Meetings of the Scientific Earthquake Studies Advisory Committee are open to the public.

DATES: September 27, 2005, commencing at 9 a.m. and adjourning at 12 p.m. on September 29, 2005.

FOR FURTHER INFORMATION CONTACT: Dr. David Applegate, U.S. Geological Survey, MS 905, 12201 Sunrise Valley Drive, Reston, Virginia 29192, (703) 648 6714.

Dated: September 12, 2005.
Linda Gundersen,
Acting Associate Director for Geology.

[FR Doc. 05-18517 Filed 9-16-05; 8:45am]

BILLING CODE 4310 Y7 M